DEPARTMENT OF HOMELAND SECURITY

Customs and Border Protection

19 CFR Chapter I

Termination of Arrival Restrictions Applicable to Flights Carrying Persons Who Have Recently Traveled From or Were Otherwise Present Within Uganda

AGENCY: U.S. Customs and Border Protection, Department of Homeland Security.

ACTION: Announcement of termination of arrival restrictions.

SUMMARY: This document announces the decision of the Secretary of Homeland Security to terminate arrival restrictions applicable to flights to the United States carrying persons who have recently traveled from, or were otherwise present within, Uganda due to an outbreak of Ebola disease in Uganda. These restrictions directed such flights to only land at one of the United States airports where the United States Government had focused public health resources to implement enhanced public health measures.

DATES: The arrival restrictions applicable to flights to the United States carrying persons who have recently traveled from, or were otherwise present within, Uganda are terminated as of 11:59 p.m. Eastern Standard Time on January 11, 2023.

FOR FURTHER INFORMATION CONTACT: Stephanie Watson, Office of Field Operations, U.S. Customs and Border Protection at 202-255-7018.

SUPPLEMENTARY INFORMATION:

Background

On October 12, 2022, the Secretary of Homeland Security announced arrival restrictions applicable to flights carrying persons who have recently traveled from, or were otherwise present within, Uganda, consistent with 6 U.S.C. 112(a), 19 U.S.C. 1433(c), and 19 CFR 122.32, in a Federal Register document titled “Arrival Restrictions Applicable to Flights Carrying Persons Who Have Recently Traveled From or Were Otherwise Present Within Uganda” (87 FR 61488). For purposes of the October 2022 arrival restrictions, a person recently traveled from Uganda if that person departed from, or was otherwise present within, Uganda within 21 days of the date of the person's entry or attempted entry into the United States.

For the reasons set forth below, the Secretary has decided to terminate the arrival restrictions applicable to flights carrying persons who have recently traveled from, or were otherwise present within, Uganda. These restrictions funnel relevant arriving air passengers to one of five designated airports of entry where the U.S. is implementing enhanced public health measures. Since November 27, 2022, there have been no new confirmed Ebola disease cases reported in Uganda and two 21-day incubation periods have passed. With no new hospitalized patients with Ebola disease, and no contacts of confirmed Ebola disease cases still requiring monitoring, the potential risk for Ebolavirus exposure in Uganda has greatly diminished. Therefore, flight arrival restrictions are no longer required for flights to the United States carrying persons who have recently traveled from, or were otherwise present within, Uganda.

Notice of Termination of Arrival Restrictions Applicable to All Flights Carrying Persons Who Have Recently Traveled From or Were Otherwise Present Within Uganda

Pursuant to 6 U.S.C. 112(a), 19 U.S.C. 1433(c), and 19 CFR 122.32, and effective as of 11:59 p.m. Eastern Standard Time on January 11, 2023, for all affected flights arriving at a United States airport, I hereby terminate the arrival restrictions applicable to flights to the United States carrying persons who have recently traveled from, or were otherwise present within, Uganda announced in the Arrival Restrictions document published at 87 FR 61488 (October 12, 2022).

Alejandro Mayorkas,
Secretary, U.S. Department of Homeland Security.

[FR Doc. 2023-00793 Filed 1-11-23; 4:45 pm]

BILLING CODE 9111-14-P